DEPARTMENT OF LABOR

[Docket No. DOL-2021-09669]

Privacy Act of 1974; System of Records

AGENCY: Transition Assistance Program, Veterans' Training and Employment Service, Department of Labor.

ACTION: Notice of a new system of records.

SUMMARY: Employment Navigators will be located on-site at specific military installations. Their primary duty is to assist transitioning service members by finding suitable employment before the transition to the civilian workforce occurs. This can be done directly, or with assistance from an approved Veterans' Employment and Training Service (VETS) partner entity. A cloud-based case management system is required to collect certain key data elements, including personally identifiable (PII) information, for the purposes of employment outcome analysis and return on investment calculations. Because of the nature of geographic spread of Employment Navigators, Transition Assistance Program (TAP) partners, and VETS staff, a cloud-based data entry and reporting system must be available to all users wherever internet access is available. The PII will be matched with external data sources, such as the National Directory of New Hires, to produce validated employment outcomes, as well as reducing burden on Employment Navigators to conduct follow-up assessments with services members or veterans.

DATES: This System of Records Notice (SORN) is effective upon its publication in today's Federal Register with the exception of the routine uses. The new routine uses will not be effective until June 9, 2021 pending public comment. Comments on the new routine uses or other aspects of the SORN must be submitted on or before June 9, 2021.

ADDRESSES: Submit your comments by one of the following methods:

Electronic Comments: Comments may be sent via email to SORN Murren.Luke@dol.gov. Mail: Address written submissions (including thumb drive and CD-ROM submissions) to U.S. DOL, VETS, and Attn: Luke Murren, 200 Constitution Avenue NW, Suite 2-1212, and Washington, DC 20210. Instructions: Please submit only one copy of your comments by only one method. All submissions must include the agency's name and the Docket Number DOL-2021-09669. Please be advised that comments received will become a matter of public record and will be posted without change to http://www.regulations.gov, including any personal information provided. Comments that are mailed must be received by the date indicated for consideration.

Docket: For access to the docket to read background documents or comments, go to the Federal e-Rulemaking Portal at http://www.regulations.gov.

FOR FURTHER INFORMATION CONTACT: Request for additional information should be submitted to the email and physical address Electronic Comments: Comments may be sent via email to Murren.Luke@dol.gov attention Luke Murren. Mail: Address written submissions to U.S. DOL, VETS, and Attn: Luke Murren, 200 Constitution Avenue NW, Suite 2-1212, and Washington, DC 20210. You may also contact Luke Murren at his work number 202-693-4711 for additional information.

SUPPLEMENTARY INFORMATION: The proposed system will be vital to safeguarding the information collected while receiving services from an Employment Navigator, or approved partner. This is a new DOL data collection system.

SYSTEM NAME AND NUMBER:

Employment Navigator Case Management System; DOL/VETS-7

SECURITY CLASSIFICATION:

None.

SYSTEM LOCATION:

Primary location: Offices in various components within the U.S. Department of Labor, at the Frances Perkins Building, 200 Constitution Avenue NW, Washington, DC 20210, or other Department offices. Additionally, duplicate versions of some or all system information may also be at satellite locations where VETS has granted direct access to support VETS operations, system backup, emergency preparedness, and/or continuity of operations. To determine the location of particular program records, contact the system manager, listed in section “SYSTEM MANAGER” below.

SYSTEM MANAGER(S):

VETS Information Technology Director, U.S. Department of Labor/Veterans' Employment and Training Service (VETS), 200 Constitution Ave. NW, Room S-1212, Washington, DC 20210, Work: (202) 693-4712.

AUTHORITY FOR MAINTENANCE OF THE SYSTEM:

Defense Manpower Data Center Data Base, November 23, 2011, 76 FR 72391; 38 U.S.C. 4102, Job Counseling, Training, and Placement Service for Veterans; and 10 U.S.C. 1142, Pre-separation Counselling; E.O. 9397. And pursuant to 10 U.S. Code § 1144 Employment assistance, job training assistance, and other transitional services: Department of Labor. The above referenced section requires DOL to “establish and maintain a program to furnish counseling, assistance in identifying employment and training opportunities, help in obtaining such employment and training, and other related information and services to members of the armed forces under the jurisdiction of the Secretary concerned who are being separated from active duty and the spouses of such members.” However, there is currently no way to measure the effectiveness or capture best practices of this requirement. Congress and the Office of Management and Budget have mentioned a great desire for DOL to be able to provide return-on-investment performance metrics for this program requirement. This requires analyzing data pertaining to all transitioning service members. The Department of Defense maintains this dataset, and will share the information with DOL through an established Memorandum of Understanding.

PURPOSE(S) OF THE SYSTEM:

The purpose of the proposed system is to enable transitioning service members and recently separated veterans' assistance in finding the best-fit career as quickly as possible. The system will allow Employment Navigators and partners to capture necessary information for DOL to conduct employment outcome analysis. The case management/reporting system should have three separate functions, with three separate roles assigned to users. The first module will allow for Employment Navigators to enter individual record data for each participant (transitioning service member) into the system. This information will be personal characteristics, services offered, and/or referral information. The second module will be accessible by TAP partner entities who will provide information on services they provided, and outcomes such as job placements, occupation employed in, and wages earned at start of employment. The last module will be accessible by internal DOL/VETS staff who wish to extract data entered in the first two modules mentioned above. DOL staff should be able to view logs of data entered in the system, create a data extract, and view canned reports created from either module.

CATEGORIES OF INDIVIDUALS COVERED BY THE SYSTEM:

Exiting service members participating in the United States Department of Defense (DOD) Pre-separation Counseling of the Transition Assistance Program (TAP) who complete documentation.

CATEGORIES OF RECORDS IN THE SYSTEM:

Data securely stored in the system will include personal characteristics, various services received from Employment Navigators and/or TAP partners, employment outcome data, and PII required to match to NDNH for employment status and earnings.

RECORD SOURCE CATEGORIES:

Data stored in this system include those captured by Employment Navigators and/or TAP partner entities at the time of service. Additional employment and earnings data will come from the NDNH.

ROUTINE USES OF RECORDS MAINTAINED IN THE SYSTEM, INCLUDING CATEGORIES OF USERS AND PURPOSES OF SUCH USES:

Each record maintained in the system will represent one transitioning service member/recently separated veteran. Routine uses for Employment Navigators and Tap partners include data entry for services received, and employment outcomes. DOL staff will utilize the system for outcome analysis, research and return on investment calculations.

POLICIES AND PRACTICES FOR STORAGE OF RECORDS:

Records will be stored electronically in a secure environment.

POLICIES AND PRACTICES FOR RETRIEVAL OF RECORDS:

Retrieval of records will only be conducted by DOL staff and approved contractors who pass a data sensitivity training module. Retrieval and analysis will be done according to: rank, military branch, military occupation specialty, employment status, quarterly earnings, and/or length of military service.

POLICIES AND PRACTICES FOR RETENTION AND DISPOSAL OF RECORDS:

Records are retained indefinitely.

ADMINISTRATIVE, TECHNICAL, AND PHYSICAL SAFEGUARDS:

The system will require a username and password for all users. The system will also feature cloud-based security protocols, and servers will be located in a secure physical location.

RECORD ACCESS PROCEDURES:

A request for access should be mailed or emailed to the system manager.

CONTESTING RECORD PROCEDURES:

A petition for amendment should be mailed or emailed to the system manager.

NOTIFICATION PROCEDURES:

Inquiry requests should be mailed or emailed to the system manager.

EXEMPTIONS PROMULGATED FOR THE SYSTEM:

None.

HISTORY:

A 60-day notice has been published to the Federal Register, and is available to be viewed here: https://www.federalregister.gov/documents/2020/07/29/2020-16378/agency-information-collection-activities-comment-request.

Rachana Desai Martin,
Senior Agency Official for Privacy, Deputy Assistant Secretary for Policy, Office of the Assistant Secretary for Administration and Management, Department of Labor.

[FR Doc. 2021-09669 Filed 5-7-21; 8:45 am]

BILLING CODE 4510-79-P